SURFACE TRANSPORTATION BOARD

49 CFR Part 1145

[Docket No. EP 711 (Sub-No. 2)]

Reciprocal Switching for Inadequate Service; Correction

AGENCY: Surface Transportation Board.

ACTION: Final rule; correction.

SUMMARY: This document corrects a printing error in the preamble of a final rule that appeared in the Federal Register on May 7, 2024.

DATES: Effective September 4, 2024.

FOR FURTHER INFORMATION CONTACT: Valerie Quinn at (202) 740-5567. If you require accommodation under the Americans with Disabilities Act, please call (202) 245-0245.

SUPPLEMENTARY INFORMATION:

Correction

In FR Doc. 2024-09483 appearing on page 38665 in the issue of May 7, 2024, in the second and third columns, make the following corrections:

1. Remove “The railroads have pushed our sites to take on more expense and change operations to match the new process and operating strategies. We have had to increase our railcar fleet by over 10 percent in the past couple of years solely due to inconsistency in the rail service and increased transit time. And we're about to increase our fleet again in the next six months by approximately seven to eight percent. This is again due to the inconsistency in the service and transit time.” Hr'g Tr. 792:19 to 793:6, Mar. 16, 2022, Reciprocal Switching, EP 711 (Sub-No. 1). Another shipper commented: “Our plant in the Northeast lost production of over 57 million pounds during the first two months of 2022 mostly due to increased transit time and railroad delays resulting from crew shortages.” Id., Hr'g Tr. 795:7 to 795:10, Mar. 16, 2022.”

2. Correct footnote 23 to read as follows:

²³ At the March 2022 hearing in Reciprocal Switching, EP 711 (Sub-No. 1), the Board heard testimony from shippers about the following types of problems encountered during this period: “The railroads have pushed our sites to take on more expense and change operations to match the new process and operating strategies. We have had to increase our railcar fleet by over 10 percent in the past couple of years solely due to inconsistency in the rail service and increased transit time. And we're about to increase our fleet again in the next six months by approximately seven to eight percent. This is again due to the inconsistency in the service and transit time.” Hr'g Tr. 792:19 to 793:6, Mar. 16, 2022, Reciprocal Switching, EP 711 (Sub-No. 1). Another shipper commented: “Our plant in the Northeast lost production of over 57 million pounds during the first two months of 2022 mostly due to increased transit time and railroad delays resulting from crew shortages.” Id., Hr'g Tr. 795:7 to 795:10, Mar. 16, 2022.

Dated: August 9, 2024.
Jeffrey Herzig,
Clearance Clerk.

[FR Doc. 2024-18155 Filed 8-13-24; 8:45 am]

BILLING CODE 4915-01-P